DEPARTMENT OF THE INTERIOR

Bureau of Land Management

[ID-300-1020-PH]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The meeting will be held March 14-15, 2006 at the BLM Idaho Falls District Office, 1405 Hollipark Drive, Idaho Falls, Idaho 83401. The meeting will start at 1 p.m. on March 14, with the public comment period as the first agenda item. The second day will conclude at or before 3 p.m.

SUPPLEMENTARY INFORMATION: The 15-member Council advises the Secretary of the Interior, through the Bureau of Land Management, on a variety of planning and management issues associated with public land management in the BLM Idaho Falls District (IFD), which covers eastern Idaho. At this meeting, the Advisory Council will receive updates on Idaho's proposed Sage Grouse Conservation Strategy, and will review the plan if available. The RAC will also review information from the BLM Idaho State Office on OHV initiatives, information on the Smoky Canyon Mine Draft EIS process, the Pocatello Resource Management Plan, Noxious Weed Management in the Idaho Falls District, and other agenda items and current issue as appropriate.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: February 14, 2005.
David Howell,
RAC Coordinator, Public Affairs Specialist.

[FR Doc. 06-1590 Filed 2-21-06; 8:45 am]

BILLING CODE 4310-GG-M